DEPARTMENT OF HEALTH AND HUMAN SERVICES

Centers for Disease Control and Prevention

Disease, Disability, and Injury Prevention and Control Special Emphasis Panel, SEP; Initial Review

In accordance with Section 10(a)(2) of the Federal Advisory Committee Act (Pub. L. 92-463), the Centers for Disease Control and Prevention (CDC) announces a meeting for the initial review of applications in response to Special Interest Projects (SIP) 15-001, Integrating Self-Management Education with Cancer Survivorship Care Planning, and SIP 15-003, Using Cancer Registry Data to Promote Proactive Tobacco Cessation among Adult Cancer Survivors.

Times and Dates:

10:00 a.m.-6:00 p.m., May 12, 2015 (Closed).

10:00 a.m.-6:00 p.m., May 13, 2015 (Closed).

Place: Teleconference.

Status: The meeting will be closed to the public in accordance with provisions set forth in Section 552b(c) (4) and (6), Title 5 U.S.C., and the Determination of the Director, Management Analysis and Services Office, CDC, pursuant to Public Law 92-463.

Matters for Discussion: The meeting will include the initial review, discussion, and evaluation of applications received in response to “Integrating Self-Management Education with Cancer Survivorship Care Planning, SIP 15-001, and Using Cancer Registry Data to Promote Proactive Tobacco Cessation among Adult Cancer Survivors, SIP 15-003.”

Contact Person for More Information: Brenda Colley Gilbert, Ph.D., M.S.P.H., Director, Extramural Research Program Operations and Services, CDC, 4770 Buford Highway NE., Mailstop F-80, Atlanta, Georgia 30341, Telephone: (770) 488-6295, BJC4@cdc.gov.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2015-08523 Filed 4-13-15; 8:45 am]

BILLING CODE 4163-18-P